DEPARTMENT OF TRANSPORTATION

Office of the Secretary

Notice of Applications for Certificates of Public Convenience and Necessity and Foreign Air Carrier Permits Filed Under Subpart B (Formerly Subpart Q) During the Week Ending January 28, 2005

The following Applications for Certificates of Public Convenience and Necessity and Foreign Air Carrier Permits were filed under Subpart B (formerly Subpart Q) of the Department of Transportation's Procedural Regulations (See 14 CFR 301.201 et seq.). The due dates for Answers, Conforming Applications, or Motions to Modify Scope are set forth below for each application. Following the Answer period DOT may process the application by expedited procedures. Such procedures may consist of the adoption of a show-cause order, a tentative order, or in appropriate cases a final order without further proceedings.

Docket Number: OST-1995-196.

Date Filed: January 28, 2005.

Due Date for Answers, Conforming Applications, or Motion to Modify Scope: February 18, 2005.

Description: Application of United Air Lines, Inc., requesting renewal of its experimental certificate of public convenience and necessity for Route 669 (U.S.-Ukraine).

Renee V. Wright,
Acting Program Manager, Alternate Federal Register Liaison.

[FR Doc. 05-2874 Filed 2-14-05; 8:45 am]

BILLING CODE 4910-62-M